NUCLEAR REGULATORY COMMISSION

[Docket Nos. 50-62 and 50-396]

Notice of License Terminations for University of Virginia Research Reactor (UVAR) and University of Virginia Cooperatively Assembled Virginia Low Intensity Educational Reactor (CAVALIER)

The U.S. Nuclear Regulatory Commission (NRC) is noticing the termination of Facility Operating License No. R-66 for the UVAR and Facility Operating License No. R-123 for the CAVALIER.

The NRC has terminated the license of the decommissioned UVAR, in the reactor facility on the UVA campus in Charlottesville, Virginia, and has released the site for unrestricted use. The licensee requested termination of the license in a letter to NRC dated June 18, 2004. The UVAR was a 2-MW-thermal, light-water-moderated, -cooled, and -reflected reactor fueled with plate-type fuel. It was licensed and first operated in June 1960. The reactor was permanently shut down on June 30, 1998. The licensee submitted a decommissioning plan to NRC for review and approval in a letter dated February 9, 2000, updated by letter dated April 26, 2000, and supplemented by letters on December 19, 2000, and May 4 and May 11, 2001. The NRC approved the UVAR decommissioning plan by Amendment No. 26 to the Facility Operating License No. R-66 on March 26, 2002.

The NRC has also terminated the license of the decommissioned CAVALIER, which was in the same reactor facility on the UVA campus in Charlottesville, Virginia, and has released the site for unrestricted use. The licensee requested termination of the license in an April 4, 2003 letter to NRC. The request for termination was affirmed by letter dated September 26, 2005. The CAVALIER was a 100-MW-thermal, light-water-moderated, -cooled, and -reflected reactor fueled with plate-type fuel. It was licensed and first operated in October 1974. The licensee submitted a decommissioning plan by letter February 26, 1990, and supplemented the plan on June 17, 1991. The NRC Commission issued an Order Authorizing Dismantling of Facility and Disposition of Component Parts for the CAVALIER, Facility Operating License No. R-123, on February 3, 1992.

A Notice and Solicitation of Comments Pursuant to 10 CFR 20.1405 and 10 CFR 50.82(b)(5) Concerning Proposed Action To Decommission the University of Virginia, University of Virginia Research Reactor appeared in the Federal Register on December 6, 2001 (65 FR 17684). All comments received were considered by the staff during the review of the UVAR decommissioning plan for Facility Operating License No. R-66.

A Notice of Proposed Issuance of Orders Disposition of Component Parts and Terminating Facility License appeared in the Federal Register on April 22, 1991 (56 FR 16350). No request for a hearing or petition for leave to intervene was filed following notice of the proposed action concerning Facility Operating License No. R-123.

The NRC completed its review of the April 2004 UVAR Final Status Survey Report submitted to NRC by letter dated June 18, 2004, and the March 2003 Evaluation of Radiological Characterization Results Relative to the Termination of NRC License No. R-123 dated, March 2003, submitted by letter dated April 4, 2003. Both reports documented the level of residual radioactivity remaining at the facility and stated that compliance with the criteria in the NRC-approved decommissioning plan for both reactors has been demonstrated.

Pursuant to 10 CFR 50.82(b)(6), the NRC staff has concluded that both reactors have been decommissioned in accordance with the approved decommissioning plans and that the terminal radiation surveys and associated documentation demonstrate that the facilities and sites may be released in accordance with the criteria in the NRC-approved decommissioning plans. Further, on the basis of the decommissioning activities carried out by UVA, the NRC's review of the licensee's final status survey report, the results of NRC inspections conducted at the UVAR and CAVALIER, and the results of NRC confirmatory surveys, the NRC has concluded that the decommissioning process is complete and the facilities and sites may be released for unrestricted use. Therefore Facility Operating License Nos. R-66 and R-123 are terminated.

For further details concerning UVAR see the licensee's application for decommissioning dated February 9, 2000, updated by letter April 26, 2000 and supplemented by letters on December 19, 2000, May 4, and May 11, 2001; the NRC approval of the UVAR decommissioning plan by Amendment No. 26 to Facility Operating License No. R-66 on March 26, 2002; the licensee's request for license termination by letter to NRC dated June 18, 2004; the April 2004 UVAR Final Status Survey Report submitted to NRC by letter dated June 18, 2004; and NRC Inspection Report No. 50-62/2002-202, dated September 2, 2005. For further details about CAVALIER, see the licensee's February 26, 1990 application for decommissioning, supplemented on June 17, 1991; the February 3, 1992, Order Authorizing Dismantling of Facility and Disposition of Component Parts for the CAVALIER, Facility Operating License No. R-123; licensee's April 4, 2003, request for termination of the license; the March 2003 Evaluation of Radiological Characterization Results Relative to the Termination of NRC License No. R-123, submitted by letter dated April 4, 2003; and NRC Inspection Report No. 50-62/2002-202, dated September 2, 2005. Documents may be examined, and/or copied for a fee, at the NRC's Public Document Room (PDR) at One White Flint North, 11555 Rockville Pike (first floor), Rockville, Maryland. Publicly available records for UVA dated after January 30, 2000, will be accessible electronically from the Agencywide Documents Access and Management System (ADAMS) Public Electronic Reading Room on the Internet at the NRC Web site, http://www.nrc.gov/reading-rm/adams.html. Persons who do not have access to ADAMS or who have problems in accessing the documents in ADAMS should call the NRC PDR reference staff at 1-800-397-4209 or 301-415-4737 or e-mail pdr@nrc.gov.

Dated at Rockville, Maryland, this 17th day of October, 2005.
For the Nuclear Regulatory Commission.
Brian E. Thomas,
Section Chief, Research and Test Reactors Section, New, Research and Test Reactors Program, Division of Regulatory Improvement Programs, Office of Nuclear Reactor Regulation.

[FR Doc. E5-5949 Filed 10-25-05; 8:45 am]

BILLING CODE 7590-01-P